DEPARTMENT OF COMMERCE

National Oceanic and Atmospheric Administration

[I.D. 111904D]

Endangered Species; File No. 1507

AGENCY: National Marine Fisheries Service (NMFS), National Oceanic and Atmospheric Administration (NOAA), Commerce.

ACTION: Receipt of application.

SUMMARY: Notice is hereby given that Llewellyn Ehrhart, University of Central Florida, 4000 Central Florida Blvd., Orlando, Florida 32816-2368, has applied in due form for a permit to take green (Chelonia mydas), loggerhead (Caretta caretta), hawksbill (Eretmochelys imbricata), Kemp's ridley (Lepidochelys kempii), and leatherback (Dermochelys coriacea) sea turtles for purposes of scientific research.

DATES: Written, telefaxed, or email comments must be received on or before January 3, 2005.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by email. The mailbox address for providing email comments is NMFS.Pr1Comments@noaa.gov. Include in the subject line of the email comment the following document identifier: File No. 1507.

FOR FURTHER INFORMATION CONTACT: Patrick Opay or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to conduct five sea turtle studies under the same permit. The first would involve in-water research of marine turtle populations in the central region of the Indian River Lagoon of Florida. The research would continue a study designed to determine the long-term trends in abundance, distribution and population structure of sea turtles in this region. The applicant proposes to capture by tangle net, flipper and passive integrated transponder (PIT) tag, measure, weigh, blood sample, photograph and release 600 green, 135 loggerhead, 3 Kemp's ridley and 2 hawksbill turtles. Green sea turtles would also be lavaged.

The second project proposes to continue studies of long-term trends in the abundance, distribution and population structure of sea turtle populations residing on the sabellariid worm reef in Indian River County, Florida. The applicant would capture by tangle net, flipper and PIT tag, measure, weigh, blood sample, photograph and release 200 green, 20 loggerhead, 2 Kemp's ridley and 2 hawksbill sea turtles. Green sea turtles would also be lavaged.

The third project proposes to use satellite telemetry to study the movements of juvenile green sea turtles in inshore waters of eastern Florida. Forty green sea turtles would be captured by tangle net, flipper and PIT tagged, measured, weighed, blood sampled, photographed, fitted with a satellite transmitter and released.

The fourth project proposes to elucidate patterns and trends in the abundance, distribution, and population structure of sea turtles at the Trident Turning Basin, Cape Canaveral, Florida. The applicant would capture by tangle net, flipper and PIT tag, measure, weigh, blood sample, photograph, and release 200 green and 10 loggerhead sea turtles. Green sea turtles would also be marked with non-toxic paint.

The fifth project proposes to study green and loggerhead sea turtle habitat utilization in the central region of the Indian River Lagoon System in Florida. Eighteen green and 18 loggerhead sea turtles would be captured by tangle net, flipper and PIT tagged, measured, weighed, photographed, fitted with VHF transmitters and time-depth-temperature recorders, released, and tracked.

The applicant requests a five-year permit. Each of the above projects would provide information that would be used to help recover and conserve threatened and endangered sea turtles.

Dated: November 24, 2004.
Stephen L. Leathery,
Chief, Permits, Conservation and Education Division, Office of Protected Resources, National Marine Fisheries Service.

[FR Doc. 04-26576 Filed 12-1-04; 8:45 am]

BILLING CODE 3510-22-S